DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons, aircraft, and vessel that have been placed on OFAC's Specially Designated Nationals and Blocked Persons List based on OFAC's determination that one or more applicable legal criteria were satisfied. All property and interests in property subject to U.S. jurisdiction of these persons, aircraft, and this vessel are blocked, and U.S. persons are generally prohibited from engaging in transactions with them.

DATES: See SUPPLEMENTARY INFORMATION section for effective date(s).

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On September 30, 2019, OFAC determined that the property and interests in property subject to U.S. jurisdiction of the following persons and the following aircraft and vessel subject to U.S. jurisdiction are blocked under the relevant sanctions authorities listed below.

Individuals

1. ASLANOV, Dzheykhun Nasimi Ogly (a.k.a. ASLANOV, Jay; a.k.a. ASLANOV, Jayhoon), Russia; DOB 01 Jan 1990; POB Sumgait, Azerbaijan; nationality Russia; Gender Male; Passport 629512112 (Russia); National ID No. 2504139886 (individual) [CYBER2] [ELECTION-EO13848] (Linked To: INTERNET RESEARCH AGENCY LLC).

Designated pursuant to section 2(a)(ii) of Executive Order 13848 of September 12, 2018, “Imposing Certain Sanctions in the Event of Foreign Interference in a United States Election,” (E.O. 13848) for having materially assisted, sponsored, or provided financial, material, or technological support for, or goods or services to or in support of, the INTERNET RESEARCH AGENCY, an entity whose property and interests in property are blocked pursuant to E.O. 13848.

Also designated pursuant to section 2(a)(iii) of E.O. 13848 for having acted or purported to act for or on behalf of, directly or indirectly, the INTERNET RESEARCH AGENCY, an entity whose property and interests in property are blocked pursuant to E.O. 13848.

2. BURCHIK, Mikhail Leonidovich (a.k.a. ABRAMOV, Mikhail), Russia; DOB 07 Jun 1986; Gender Male (individual) [CYBER2] [ELECTION-EO13848] (Linked To: INTERNET RESEARCH AGENCY LLC).

Designated pursuant to section 2(a)(ii) of E.O. 13848 for having materially assisted, sponsored, or provided financial, material, or technological support for, or goods or services to or in support of, the INTERNET RESEARCH AGENCY, an entity whose property and interests in property are blocked pursuant to E.O. 13848.

Also designated pursuant to section 2(a)(iii) of E.O. 13848 for having acted or purported to act for or on behalf of, directly or indirectly, the INTERNET RESEARCH AGENCY, an entity whose property and interests in property are blocked pursuant to E.O. 13848.

3. KUZMIN, Denis Igorevich, Russia; DOB 18 Dec 1990; Gender Male (individual) [ELECTION-EO13848] (Linked To: INTERNET RESEARCH AGENCY LLC).

Designated pursuant to section 2(a)(ii) of E.O. 13848 for having materially assisted, sponsored, or provided financial, material, or technological support for, or goods or services to or in support of, the INTERNET RESEARCH AGENCY, an entity whose property and interests in property are blocked pursuant to E.O. 13848.

Also designated pursuant to section 2(a)(iii) of E.O. 13848 for having acted or purported to act for or on behalf of, directly or indirectly, the INTERNET RESEARCH AGENCY, an entity whose property and interests in property are blocked pursuant to E.O. 13848.

4. NESTEROV, Igor Vladimirovich, Russia; DOB 07 Feb 1985; citizen Russia; Gender Male (individual) [ELECTION-EO13848] (Linked To: INTERNET RESEARCH AGENCY LLC).

Designated pursuant to section 2(a)(ii) of E.O. 13848 for having materially assisted, sponsored, or provided financial, material, or technological support for, or goods or services to or in support of, the INTERNET RESEARCH AGENCY, an entity whose property and interests in property are blocked pursuant to E.O. 13848.

Also designated pursuant to section 2(a)(iii) of E.O. 13848 for having acted or purported to act for or on behalf of, directly or indirectly, the INTERNET RESEARCH AGENCY, an entity whose property and interests in property are blocked pursuant to E.O. 13848.

5. PODKOPAEV, Vadim Vladimirovich (a.k.a. PODKOPAYEV, Vadim), Russia; DOB 01 May 1985; Gender Male (individual) [CYBER2] [ELECTION-EO13848] (Linked To: INTERNET RESEARCH AGENCY LLC).

Designated pursuant to section 2(a)(ii) of E.O. 13848 for having materially assisted, sponsored, or provided financial, material, or technological support for, or goods or services to or in support of, the INTERNET RESEARCH AGENCY, an entity whose property and interests in property are blocked pursuant to E.O. 13848.

Also designated pursuant to section 2(a)(iii) of E.O. 13848 for having acted or purported to act for or on behalf of, directly or indirectly, the INTERNET RESEARCH AGENCY, an entity whose property and interests in property are blocked pursuant to E.O. 13848.

6. PRIGOZHIN, Yevgeniy Viktorovich (a.k.a. PRIGOZHIN, Evgeny), Russia; DOB 01 Jun 1961; Gender Male (individual) [UKRAINE-EO13661] [CYBER2] [ELECTION-EO13848] (Linked To: INTERNET RESEARCH AGENCY LLC).

Designated pursuant to section 2(a)(ii) of E.O. 13848 for having materially assisted, sponsored, or provided financial, material, or technological support for, or goods or services to or in support of, the INTERNET RESEARCH AGENCY, an entity whose property and interests in property are blocked pursuant to E.O. 13848.

7. VENKOV, Vladimir Dmitriyevich (a.k.a. VENKOV, Vladimir), Russia; DOB 28 May 1990; Gender Male (individual) [CYBER2] [ELECTION-EO13848] (Linked To: INTERNET RESEARCH AGENCY LLC).

Designated pursuant to section 2(a)(ii) of E.O. 13848 for having materially assisted, sponsored, or provided financial, material, or technological support for, or goods or services to or in support of, the INTERNET RESEARCH AGENCY, an entity whose property and interests in property are blocked pursuant to E.O. 13848.

Also designated pursuant to section 2(a)(iii) of E.O. 13848 for having acted or purported to act for or on behalf of, directly or indirectly, the INTERNET RESEARCH AGENCY, an entity whose property and interests in property are blocked pursuant to E.O. 13848.

Entities

1. AUTOLEX TRANSPORT LTD., Alpha Centre, Providence Office, Number 22, Mahe, Seychelles [UKRAINE-EO13661] [CYBER2] [ELECTION-EO13848] (Linked To: PRIGOZHIN, Yevgeniy Viktorovich).

Designated pursuant to section 2(a)(ii) of E.O. 13848 for having materially assisted, sponsored, or provided financial, material, or technological support for, or goods or services to or in support of, YEVGENIY VIKTOROVICH PRIGOZHIN, a person whose property and interests in property are blocked pursuant to E.O. 13848.

Also designated pursuant to section 1(a)(iii)(B) of Executive Order 13694 of April 1, 2015, “Blocking Property of Certain Persons Engaging in Significant Malicious Cyber-Enabled Activities,” as amended by Executive Order 13757 of December 28, 2016, “Taking Additional Steps to Address the National Emergency With Respect to Significant Malicious Cyber-Enabled Activities,” (E.O. 13694, as amended) for having materially assisted, sponsored, or provided financial, material, or technological support for, or goods or services to or in support of, YEVGENIY VIKTOROVICH PRIGOZHIN, a person whose property and interests in property are blocked pursuant to E.O. 13694, as amended.

Also designated pursuant to section 1(a)(ii)(D)(2) of Executive Order 13661 of March 16, 2014, “Blocking Property of Additional Persons Contributing to the Situation in Ukraine,” (E.O. 13661) for having materially assisted sponsored, or provided financial, material, or technological support for, or goods or services to or in support of, YEVGENIY VIKTOROVICH PRIGOZHIN, a person whose property and interests in property are blocked pursuant to E.O. 13661.

2. BERATEX GROUP LIMITED (a.k.a. BERATEX GROUP LTD.), Suite 1, Sound and Vision House, Francis Rachel Street, Victoria, Mahe, Seychelles [UKRAINE-EO13661] [CYBER2] [ELECTION-EO13848] (Linked To: PRIGOZHIN, Yevgeniy Viktorovich).

Designated pursuant to section 2(a)(ii) of E.O. 13848 for having materially assisted, sponsored, or provided financial, material, or technological support for, or goods or services to or in support of, YEVGENIY VIKTOROVICH PRIGOZHIN, a person whose property and interests in property are blocked pursuant to E.O. 13848.

Also designated pursuant to section 1(a)(iii)(B) of E.O. 13694, as amended, for having materially assisted, sponsored, or provided financial, material, or technological support for, or goods or services to or in support of, YEVGENIY VIKTOROVICH PRIGOZHIN, a person whose property and interests in property are blocked pursuant to E.O. 13694, as amended.

Also designated pursuant to section 1(a)(ii)(D)(2) of E.O. 13661 for having materially assisted sponsored, or provided financial, material, or technological support for, or goods or services to or in support of, YEVGENIY VIKTOROVICH PRIGOZHIN, a person whose property and interests in property are blocked pursuant to E.O. 13661.

3. LINBURG INDUSTRIES LTD., Alpha Centre, Providence Office, Number 22, Mahe, Seychelles; Blanicka 590/3, Vinohrady, Prague 120 000, Czech Republic; Registration Number 191335 (Seychelles) [UKRAINE-EO13661] [CYBER2] [ELECTION-EO13848] (Linked To: PRIGOZHIN, Yevgeniy Viktorovich).

Designated pursuant to section 2(a)(ii) of E.O. 13848 for having materially assisted, sponsored, or provided financial, material, or technological support for, or goods or services to or in support of, YEVGENIY VIKTOROVICH PRIGOZHIN, a person whose property and interests in property are blocked pursuant to E.O. 13848.

Also designated pursuant to section 1(a)(iii)(B) of E.O. 13694, as amended, for having materially assisted, sponsored, or provided financial, material, or technological support for, or goods or services to or in support of, YEVGENIY VIKTOROVICH PRIGOZHIN, a person whose property and interests in property are blocked pursuant to E.O. 13694, as amended.

Also designated pursuant to section 1(a)(ii)(D)(2) of E.O. 13661 for having materially assisted sponsored, or provided financial, material, or technological support for, or goods or services to or in support of, YEVGENIY VIKTOROVICH PRIGOZHIN, a person whose property and interests in property are blocked pursuant to E.O. 13661.

4. INTERNET RESEARCH AGENCY LLC (a.k.a. AZIMUT LLC; a.k.a. GLAVSET LLC; a.k.a. GLAVSET, OOO; a.k.a. LAKHTA INTERNET RESEARCH; a.k.a. MEDIASINTEZ LLC; a.k.a. MEDIASINTEZ, OOO; a.k.a. MIXINFO LLC; a.k.a. NOVINFO LLC; a.k.a. NOVINFO, OOO), 55 Savushkina Street, St. Petersburg, Russia; d. 4 korp. 3 litera A pom. 9-N, ofis 238, ul. Optikov, St. Petersburg, Russia; d. 4 litera B pom. 22-N, ul. Starobelskaya, St. Petersburg, Russia; d. 79 litera A. pom 1-N, ul. Planernaya, St. Petersburg, Russia; 4 Optikov Street, Building 3, St. Petersburg, Russia [CYBER2] [ELECTION-EO13848].

Designated pursuant to section 2(a)(i) of E.O. 13848 for having directly or indirectly engaged in, sponsored, concealed, or otherwise been complicit in foreign interference in a United States election.

Aircraft

1. M-SAAN; Aircraft Manufacture Date Sep 2007; Aircraft Mode S Transponder Code 424B32; Aircraft Model EMB135; Aircraft Operator Autolex Transport LTD.; Nationality of Registration Man, Isle of; Aircraft Serial Identification 14501008 (aircraft) [UKRAINE-EO13661] [CYBER2] [ELECTION-EO13848] (Linked To: AUTOLEX TRANSPORT LTD.).

Identified pursuant to E.O. 13848 for being property in which AUTOLEX TRANSPORT LTD., a person whose property and interests in property are blocked pursuant to E.O. 13848, has an interest.

Also identified pursuant to E.O. 13694, as amended, for being property in which AUTOLEX TRANSPORT LTD., a person whose property and interests in property are blocked pursuant to E.O. 13694, as amended, has an interest.

Also identified pursuant to E.O. 13661, for being property in which AUTOLEX TRANSPORT LTD., a person whose property and interests in property are blocked pursuant to E.O. 13661, has an interest.

2. RA-02791 (f.k.a. M-VITO); Aircraft Manufacture Date 01 Dec 2000; Aircraft Mode S Transponder Code 140AE7; Aircraft Model Hawker 800XP; Aircraft Operator Beratex Group Limited; Nationality of Registration Russia; Aircraft Serial Identification 258512 (aircraft) [UKRAINE-EO13661] [CYBER2] [ELECTION-EO13848] (Linked To: BERATEX GROUP LIMITED).

Identified pursuant to E.O. 13848 for being property in which BERATEX GROUP LIMITED, a person whose property and interests in property are blocked pursuant to E.O. 13848, has an interest.

Also identified pursuant to E.O. 13694, as amended, for being property in which BERATEX GROUP LIMITED, a person whose property and interests in property are blocked pursuant to E.O. 13694, as amended, has an interest.

Also identified pursuant to E.O. 13661, for being property in which BERATEX GROUP LIMITED, a person whose property and interests in property are blocked pursuant to E.O. 13661, has an interest.

3. VP-CSP; Aircraft Manufacture Date Sep 1991; Aircraft Mode S Transponder Code 400065; Aircraft Model BAE 125 Series 800B; Aircraft Operator Linburg Industries LTD.; Nationality of Registration Cayman Islands; Aircraft Serial Identification 258210 (aircraft) [UKRAINE-EO13661] [CYBER2] [ELECTION-EO13848] (Linked To: LINBURG INDUSTRIES LTD.).

Identified pursuant to E.O. 13848 for being property in which LINBURG INDUSTRIES LTD., a person whose property and interests in property are blocked pursuant to E.O. 13848, has an interest.

Also identified pursuant to E.O. 13694, as amended, for being property in which LINBURG INDUSTRIES LTD., a person whose property and interests in property are blocked pursuant to E.O. 13694, as amended, has an interest.

Also identified pursuant to E.O. 13661, for being property in which LINBURG INDUSTRIES LTD., a person whose property and interests in property are blocked pursuant to E.O. 13661, has an interest.

Vessel

1. ST. VITAMIN Pleasure Craft St. Vincent and the Grenadines flag (Beratex Group Limited); MMSI 375311000 (vessel) [UKRAINE-EO13661] [CYBER2] [ELECTION-EO13848] (Linked To: BERATEX GROUP LIMITED).

Identified pursuant to E.O. 13848 for being property in which BERATEX GROUP LIMITED, a person whose property and interests in property are blocked pursuant to E.O. 13848, has an interest.

Also identified pursuant to E.O. 13694, as amended, for being property in which BERATEX GROUP LIMITED, a person whose property and interests in property are blocked pursuant to E.O. 13694, as amended, has an interest.

Also identified pursuant to E.O. 13661, for being property in which BERATEX GROUP LIMITED, a person whose property and interests in property are blocked pursuant to E.O. 13661, has an interest.

On September 30, 2019, OFAC updated the Specially Designated Nationals and Blocked Persons List entry for the following person, whose property and interests in property subject to U.S. jurisdiction continue to be blocked.

Individual

Dated: September 30, 2019.
Andrea Gacki,
Director, Office of Foreign Assets Control.

[FR Doc. 2019-21606 Filed 10-3-19; 8:45 am]

BILLING CODE 4810-AL-P